DEPARTMENT OF THE TREASURY

Submission for OMB Review; Comment Request

April 18, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 24, 2006 to be assured of consideration.

Bureau of Public Debt (PD)

OMB Number: 1535-0012.

Type of Review: Extension.

Title: Request by Fiduciary for Reissue of United States Savings Bonds Organizations.

Form: PD F 1455.

Description: Used by fiduciary to request distribution of U.S. Savings bonds to the person(s) entitled.

Respondents: Individuals or households.

Estimated Total Burden Hours: 8,850 hours.

OMB Number: 1535-0032.

Type of Review: Extension.

Title: Application for disposition of Retirement Plan/Individual Retirement Bonds without Admin. of Deceased Owners Estate.

Form: PD F 3565.

Description: Used by heirs of deceased owners of Retirement Plan/Indiv. Retirement Bonds to request disposition.

Respondents: Individuals or households.

Estimated Total Burden Hours: 17 hours.

OMB Number: 1535-055.

Type of Review: Extension.

Title: Creditors request for payment of Treasury Securities belonging to a decedent's estate being settled without administration.

Form: PD F 1050.

Description: Used to obtain creditor consent to dispose of securities of a deceased owner's estate without administration.

Respondents: Business or other for-profit; Individuals or households.

Estimated Total Burden Hours: 150 hours.

OMB Number: 1535-0084.

Type of Review: Extension.

Title: Order for Series I/EE U.S. Savings Bonds and Order for Series I/EE U.S. Savings Bond in name of fiduciary.

Form: PD F 5263, 5263-1, 5374 and 5374-1.

Description: Completed by the purchaser to issue U.S. Savings Bonds.

Respondents: Individuals or households.

Estimated Total Burden Hours: 830,000 hours.

OMB Number: 1535-0102.

Type of Review: Extension.

Title: Supporting Statement of Ownership for Overdue United States Bearer Securities.

Form: PD F 1071.

Description: Used to establish ownership and support a request for payment.

Respondents: Individuals or households and Business or other for-profit.

Estimated Total Burden Hours: 250 hours.

OMB Number: 1535-0126.

Type of Review: Extension.

Title: Application for Issue of United States Mortgage Guaranty Insurance Company Tax and Loss Bonds.

Form: PD F 3871.

Description: Submitted by companies engaged in the business of writing mortgage guaranty insurance for purpose of purchasing “Tax and Loss” bonds.

Respondents: Business or other for-profit.

Estimated Total Burden Hours: 20 hours.

Clearance Officer: Vicki S. Thorpe, (304) 480-8150. Bureau of the Public Debt, 200 Third Street, Parkersburg, West Virginia 26106.

OMB Reviewer: Alexander T. Hunt, (202) 395-7316. Office of Management and Budget, Room 10235, New Executive Office Building, Washington, DC 20503.

Michael A. Robinson,
Treasury PRA Clearance Officer.

[FR Doc. E6-6085 Filed 4-21-06; 8:45 am]

BILLING CODE 4810-39-P